DEPARTMENT OF TRANSPORTATION

Federal Highway Administration

Environmental Impact Statement: Yellowstone County, MT

AGENCY: Federal Highway Administration (FHWA), DOT.

ACTION: Notice of intent—revised.

SUMMARY: The FHWA is issuing this notice to advise the public that an environmental impact statement will be prepared for a proposed highway project in Yellowstone County, Montana.

FOR FURTHER INFORMATION CONTACT: Brian Hasselbach, Right of Way and Environmental Programs Manager, Federal Highway Administration, 585 Shepard Way, Helena, Montana 59601. Telephone: (406) 441-3908; or Fred Bente, Consultant Design, Montana Department of Transportation, 2701 Prospect Avenue, P.O. Box 201001, Helena, Montana 59620-1001. Telephone: (406) 444-7634.

SUPPLEMENTARY INFORMATION: The FHWA, in cooperation with the Montana Department of Transportation, will prepare an environmental impact statement (EIS) on a proposal to construct a connection between Interstate 90 (I-90) and Old Highway 312 in or near the city of Billings, Yellowstone County, Montana.

FHWA previously issued a notice on August 13, 2003 that an EIS would be prepared for a proposal to construct a bypass route north of the city of Billings. Funding constraints prompted a re-scoping of that proposed project and this notice is intended to advise the public that an EIS will be prepared on the re-scoped, proposed project.

These improvements are considered necessary in order to provide an additional Yellowstone River crossing for transportation system reliability. The improvements are also necessary to provide an additional connection between the Lockwood and Billings areas; as well as improve mobility to and from Billings Heights.

Alternatives under consideration include (1) taking no action; (2) providing a connection between I-90 and Old Highway 312.

Letters describing the proposed action and soliciting comments have been sent to appropriate Federal, State, and local agencies, and to private organizations and citizens, who have previously expressed interest in this proposal. An extensive public involvement process will be conducted to solicit views and comments from appropriate agencies and interested private organizations and citizens. The process, to date, has included a Billings Bypass Advisory Committee, public meetings and workshops, a public hearing, and presentations and meetings.

Public notice will be given of the time and place of future outreach meetings and hearing. The draft EIS will be available for public and agency review and comment prior to the public hearing. No formal scoping meeting date has been set at this time.

To ensure that the full range of issues related to this proposed action are addressed and all significant issues identified, comments and suggestions are invited from all interested parties. Comments or questions concerning this proposed action and the EIS should be directed to the FHWA or MDT at the addresses provided previously.

(Catalog of Federal Domestic Assistance Program Number 20.206, Highway Planning & Construction. The regulations implementing Executive Order 12372 regarding intergovernmental consultation on Federal programs and activities apply to this program.)

Authority: 23 U.S.C. 315; 49 CFR 1.48.

Issued on: August 26, 2010.
Brian Hasselbach,
Right of Way & Environmental Programs Manager, FHWA.

[FR Doc. 2010-22116 Filed 9-3-10; 8:45 am]

BILLING CODE 4910-22-M